FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel-Operating Common Carrier Ocean Transportation Intermediary Applicants

Khan Trans Inc., 1550 E. Higgins Road, #115, Elk Grove Village, IL 60007. Officer: Jin Hyung Cho, President (Qualifying Individual).

NY International Shipping Inc., 227 East 81 Street, New York, NY 10028. Officer: David Mazafi, President (Qualifying Individual).

Evox Logistics, Inc., 700 El Tesorito, South Pasadena, CA 91030. Officers: Chi Man Leung, CEO (Qualifying Individual), Yuen Yi Leung, Secretary.

US Pacific Transport, Inc., 126 Common Wealth Avenue, Massapequa, NY 11758. Officers: Chi Ming Szeto, Vice President (Qualifying Individual), Ada Lai Yin Tam, President.

Echo Global Logistics LLC, 600 West Chicago Avenue, Chicago, IL 60610. Officer: Jan Carl Steiner, Director (Qualifying Individual).

Alpine Freight Services, Inc., 4 Winchester, Irvine, CA 92620. Officers: Chihhao Chang, President (Qualifying Individual), Shia Shung Shih, Secretary.

TT Ocean Logistics, LLC, 1725 Duke Street, Suite 240, Arlington, VA 22314. Officers: Collin Anday, Director (Qualifying Individual), Michael Scotch, Manager.

Air Sea Cargo Logistic LLC, 10 Molteg Drive, Parlin, NJ 08859. Officers: Satish K. Sharma, Manager, (Qualifying Individual), Sushma K. Sharma, President.

Cargo Net International, LLC, 2801 NW. 74th Avenue, Suite 218, Miami, FL 33122. Officers: Eric E. Diaz, Managing Director (Qualifying Individual), German E. Muchico, Manager.

Direct Overseas Transport, Inc., 7916 Kern Lane, Fort Worth, TX 76137. Officers: Jason Hays, President (Qualifying Individual), Daphne Hays, Vice President.

Non-Vessel-Operating Common Carrier and Ocean Freight Forwarder Transportation Intermediary Applicants

Move Management, Inc. dba MMI Ocean Services, 16346 East Airport Circle, Aurora, CO 80011. Officers: William H. Graebel, President (Qualifying Individual), Benjamin Graebel, Vice Chairman.

Oriental Logistics Miami, Inc., 7200 NW 19th Street, Suite 302, Miami, FL 33126. Officers: Anly Liu, Vice President (Qualifying Individual), Samuel Wong, President.

St. John Freight Systems, Inc., #404, 190 Middlesex Essex Turnpike, Iselin, NJ 08830. Officers: Kenneth Carr, Secretary (Qualifying Individual), Chandramouleesware Jagadeeswari, President.

TMO Global Logistics, LLC, 600 Peter Jefferson Parkway, Suite 310, Charlottesville, VA 22911. Officer: Mia Josephine Aguilar, Manager (Qualifying Individual).

Global International Shipping Inc. dba G.I.S., 125 S. Elm Street, Suite 202, Greensboro, NC 27401. Officers: Ziad H. Najjar, President, Huthaifa Al-adwan, Partner (Qualifying Individuals).

Shipex LLC, 3341 Rauch Street, Houston, TX 77029. Officers: Mohamed F. El-Khodiry, C.O.O. (Qualifying Individual), Sari Ghazal, Member.

KPAC Aerocean, Inc. dba Aerocean Transport Services, 550 E. Carson Plaza Drive, Suite 109, Carson, CA 90746. Officer: Young Ho Kang, President (Qualifying Individual).

Ocean Freight Forwarder—Ocean Transportation Intermediary Applicants

West Coast Forwarding, Inc., 1028 North Lake Avenue, Suite 202, Pasadena, CA 91104. Officers: David O'Donnell, President (Qualifying Individual), Aimee Saye, Vice President.

RG Logistics Ltd., 111 Madison Avenue, Hempstead, NY 11550. Officer: Roy Ghirdarry, President (Qualifying Individual).

Dated: January 13, 2006.
Bryant L. VanBrakle,
Secretary.

[FR Doc. E6-566 Filed 1-18-06; 8:45 am]

BILLING CODE 6730-01-P